DEPARTMENT OF STATE

[Public Notice 8425]

30-Day Notice of Proposed Information Collection: Application for Additional Visa Pages or Miscellaneous Passport Services

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to September 19, 2013.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to U.S. Department of State, Bureau of Consular Affairs, Passport Services, Office of Program Management and Operational Support, 2201 C Street NW., Washington, DC 20520, who may be reached on (202) 485-6510 or at PPTFormsOfficer@state.gov.

SUPPLEMENTARY INFORMATION: • Title of Information Collection: Application for Additional Visa Pages or Miscellaneous Passport Services.

• OMB Control Number: 1405-0159.

• Type of Request: Revision of a Currently Approved Collection.

• Originating Office: Bureau of Consular Affairs, Passport Services, Office of Program Management and Operational Support, Program Coordination Division (CA/PPT/S/PMO/PC).

• Form Number: DS-4085.

• Respondents: Individuals or Households.

• Estimated Number of Respondents: 68,559 respondents per year.

• Estimated Number of Responses: 68,559 responses per year.

• Average Time per Response: 20 minutes per response.

• Total Estimated Burden Time: 22,853 hours per year.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

Under 22 United States Code (U.S.C.) Section 211a et seq. and Executive Order 11295 (August 5, 1966), the Secretary of State has authority to issue U.S. passports to U.S. citizens and non-citizen nationals. When the bearer of a valid U.S. passport applies for the addition of visa pages to that passport, the Department must confirm the applicant's identity and eligibility to receive passport services before the Department can return the passport to the applicant with additional visa pages. Form DS-4085 requests information that is necessary to determine whether the applicant is eligible to receive passport services in accordance with the requirements of Title III of the Immigration and Nationality Act (INA) (U.S.C. sections 1402-1504), the regulations at 22 CFR parts 50 and 51, and other applicable authorities.

Methodology:

Passport Services collects information from U.S. citizens and non-citizen nationals when they complete and submit the Application for Additional Visa Pages or Miscellaneous Passport Services. Passport applicants can either download the DS-4085 from the internet or obtain one from an Acceptance Facility/Passport Agency. The form must be completed, signed, and submitted along with the applicant's valid U.S. passport.

The Department estimates that these changes will not result in an increase in the current burden time of 20 minutes.

Dated: August 8, 2013.
Brenda S. Sprague,
Deputy Assistant Secretary for Passport Services, Bureau of Consular Affairs, Department of State.

[FR Doc. 2013-20316 Filed 8-19-13; 8:45 am]

BILLING CODE 4710-06-P